NATIONAL COUNCIL ON DISABILITY

Youth Advisory Committee Meeting

AGENCY: National Council on Disability (NCD).

AGENDA: Roll call, announcements, reports, new business, adjournment.

Time and Date: 1 p.m.-2:30 p.m., August 20, 2003.

Place: Intercontinental Houston Hotel, 2222 West Loop South, Houston, Texas.

Status: All parts of this meeting will be open to the public. Those interested in participating in this meeting should contact the appropriate staff member listed below.

FOR FURTHER INFORMATION CONTACT: Geraldine Drake Hawkins, PhD., Program Specialist, National Council on Disability, 1331 F Street NW., Suite 850, Washington, DC 20004; 202-272-2004 (voice), 202-272-2074 (TTY), 202-272-2022 (fax), ghawkins@ncd.gov (e-mail).

Youth Advisory Committee Mission: The purpose of NCD's Youth Advisory Committee is to provide input into NCD activities consistent with the values and goals of the Americans with Disabilities Act.

Dated: July 22, 2003.
Ethel D. Briggs,
Executive Director.

[FR Doc. 03-19019 Filed 7-24-03; 8:45 am]

BILLING CODE 6820-MA-P